DEPARTMENT OF THE INTERIOR

National Park Service

Chesapeake Bay Special Resource Study, Final Environmental Impact Statement

AGENCY: National Park Service, Department of the Interior.

ACTION: Notice of availability of a Chesapeake Bay Special Resource Study, Final Environmental Impact Statement.

SUMMARY: Pursuant to section 102(2) of the National Environmental Policy Act of 1969, the National Park Service announces the availability of a Chesapeake Bay Special Resource Study/Final Environmental Impact Statement (SRS/FEIS).

The Fiscal Year 1999 appropriations bill for the Department of Interior and related agencies included direction to the National Park Service to conduct a Special Resource Study to: (a) Examine whether having additional Chesapeake Bay resources within the National Park System would make sense and would advance partnership efforts to conserve and celebrate the Chesapeake Bay; (b) define whether there are concepts or ways that areas of the Bay might fit appropriately within the diverse National Park System; and (c) make recommendations to Congress regarding these findings. This SRS/FEIS outlines alternatives and a preferred approach for how the Chesapeake Bay might be represented within/by the National Park System.

DATES: The National Park Service will execute a Record of Decision (ROD) no sooner than 30 days following publication by the Environmental Protection Agency of the notice of availability of the Final Environmental Impact Statement.

ADDRESSES: Copies of the SRS/FEIS are available upon request by writing to NPS Chesapeake Bay Program Office, 410 Severn Avenue, Suite 109, Annapolis MD 21403, by phone at 800 YOUR BAY (968-7229), or by e-mail to cmueller@chesapeakebay.net. A downloadable on-line version of the document is available at: http://www.chesapeakestudy.org.

FOR FURTHER INFORMATION CONTACT: Director, NPS Chesapeake Bay Program Office, 410 Severn Avenue, Suite 109, Annapolis MD 21403, or 800 YOUR BAY (968-7229).

Dated: June 23, 2004.
Marie Rust,
Regional Director, Northeast Region, National Park Service.

[FR Doc. 04-20296 Filed 9-7-04; 8:45 am]

BILLING CODE 4312-52-P